DEPARTMENT OF DEFENSE

Department of the Army, Corps of Engineers

Intent to Prepare a Draft Environmental Impact Statement (DEIS) for the Tampa Harbor Navigation Project General Reevaluation Report

AGENCY: U.S. Army Corps of Engineers, DoD.

ACTION: Notice of Intent.

SUMMARY: The Jacksonville District, U.S. Army Corps of Engineers intends to prepare a DEIS for the Tampa Harbor Navigation Project General Reevaluation Report. The non-Federal sponsor for the Tampa Harbor Navigation Project is the Tampa Port Authority.

FOR FURTHER INFORMATION CONTACT: William J. Fonferek, (904) 232-2803, Environmental Branch, Planning Division, P.O. Box 4970, Jacksonville, Florida 32232-0019.

SUPPLEMENTARY INFORMATION: The Committee on Transportation and Infrastructure of the United States House of Representatives, requested the Secretary of the Army to review the report to the Chief of Engineers on the Tampa Harbor, Florida, published as House Document 401, 91st Congress, 2nd Session and other pertinent reports, with a view of determining if the authorized project should be modified in any way at this time, with particular reference to deep draft navigation.

The reason for the study is to reconsider safety and economic efficiency. Many of the project's channels are one-way and might be improved to relieve safety concerns and vessel traffic congestion.

1. Alternatives: In addition to the no action alternative, we are considering creating an anchorage area; a secondary channel loop using St. Petersburg Harbor channel; passing lanes; and turning basins at channel intersections. In addition, we will be looking at other options such as main channel deepening; East Bay Channel deepening; constructing previously authorized projects; and the eastward extension of Port Sutton.

2. Issues: The Environmental Impact Statement (EIS) will consider impacts on safety, economic efficiency, hardbottom communities, protected species, shore protection, health, water quality, aesthetics and recreation, fish and wildlife resources, cultural resources, energy conservation, socio-economic resources, and other impacts identified through scoping, public involvement, and interagency coordination.

3. Scoping: A scoping letter was sent to interested parties on April 30, 2001. In addition, all parties are invited to participate in the scoping process by identifying any additional concerns on issues, studies needed, alternatives, procedures, and other matters related to the scoping process.

4. Public Involvement: We invite the participation of affected Federal, State and local agencies, affected Indian Tribes, and other interested private organizations and parties.

5. Coordination: The proposed action is being coordinated with the U.S. Fish and Wildlife Service (FWS) and the National Marine Fisheries Service (NMFS) under Section 7 of the Endangered Species Act and the Marine Mammal Protection Act, with the FWS under the Fish and Wildlife Act, the NMFS under the Magnuson-Stevens Fishery Conservation and Management Act for Essential Habitat, and with the State Historic Preservation Officer.

6. Other Environmental Review and Consultation: The proposed action may involve an evaluation for compliance with guidelines pursuant to Section 404(b) of the Clean Water Act; application (to the State of Florida) for Water Quality Certification pursuant to Section 401 of the Clean Water Act; certification of state lands, easements, and rights of way; and determination of Coastal Zone Management Act consistency.

7. DEIS Preparation: It is estimated that the DEIS will be available to the public on or about May 1, 2002.

Luz D. Ortiz,
Army Federal Register Liaison Officer.

[FR Doc. 01-13694 Filed 5-30-01; 8:45 am]

BILLING CODE 3710-AJ-M